DEPARTMENT OF HEALTH AND HUMAN SERVICES

[CFDA 93.019]

Single Source Cooperative Agreement Award for the Gorgas Memorial Institute of Health Studies

AGENCY: Office of Policy and Planning (OPP), Office of the Assistant Secretary for Preparedness and Response (ASPR), Department of Health and Human Services (HHS).

ACTION: Notice.

SUMMARY: In FY2011, HHS/ASPR/OPP plans to provide a Single Source Cooperative Agreement Award to GMI to strengthen Panama's laboratory diagnostic capacity for emerging infectious disease threats including select bio-terrorism agents and novel influenza viruses. The amount of Single Source award is $200,000. The project period is: September 30, 2011 to September 29, 2012.

SUPPLEMENTARY INFORMATION:

ASPR will exercise sole administrative oversight of this cooperative agreement. ASPR will also collaborate with HHS-Centers for Disease Control and Prevention (CDC) to coordinate the provision of technical expertise needed for GMI to become a member of the LRN. GMI will then implement critical laboratory diagnostic capacities, including personnel training and infrastructure improvement to meet the standards to become an international affiliate of LRN.

This collaboration seeks to expand the laboratory diagnostic capacity of Panama and the Central American Region as GMI is a national and regional reference laboratory for several infectious diseases. The work will be performed to support the implementation of the World Health Organization (WHO)'s International Health Regulations [IHR (2005)] in Panama and in the context of Article 44 of the IHR (2005), which directs State Parties to collaborate with each other to detect, assess, and respond to events, and to develop, strengthen, and maintain core capacities for disease surveillance and response to public health emergencies.

Single Source Justification

GMI is a public health institution within the Ministry of Health of Panama which provides research, public health services and advice on public health policy development. It was created in 1928 and was primarily funded by the United State Government (USG) until 1991. GMI was named after General William Crawford Gorgas, the U.S. Army physician who managed control efforts of yellow fever, malaria and other diseases during the building of the Panama Canal. GMI contributes to improve the health of the population of Panama and Central America by acting as a national reference public health laboratory to diagnose diseases like yellow fever, malaria, measles, tuberculosis, arbovirus febrile illness, viral encephalitidies, influenza, dengue, hantavirus cardiopulmonary syndrome, and all endemic viral and bacterial diseases. Most recently GMI became a World Bank-Pan-American Health Organization reference laboratory for human immunodeficiency virus (HIV) for the Central American region. GMI has well-established laboratories of virology, parasitology, immunology, genomics, entomology and food and water chemistry. GMI also has departments of epidemiology and biostatistics, chronic disease studies, health policy, and health and human reproduction studies. This infrastructure positions GMI as a key institution in Panama's national research and public health systems.

In 2006, GMI signed a Memorandum of Understanding (MOU) with HHS to identify joint opportunities to improve preparedness for and response to infectious diseases, placing specific emphasis on influenza and other respiratory diseases. To further the goals of the MOU, GMI was awarded two cooperative agreements by HHS-ASPR to increase its virology diagnostic capacity and strengthen the surveillance of influenza virus in Panama and Central American, and to develop a Regional Health Care Training Center (RHCTC) for health care workers of the Central American and Caribbean region. These cooperative agreements helped to establish the first country-wide sentinel influenza surveillance network, and a BSL-3 laboratory virology suite that was built and inaugurated in 2010. In addition, complementary epidemiological and laboratory training efforts took place at the RHCTC benefitting more than 5,000 professionals from Panama, Belize, Costa Rica, El Salvador, Guatemala, Honduras and Nicaragua, and Dominican Republic. Based on the capacities developed under these projects, the GMI was designated as Panama's “National Influenza Center” by the World Health Organization (WHO).

By supporting GMI to become a qualified member of the LRN, the USG will increase its international network of laboratories that are fully equipped to detect, assess and report the outbreak of emerging infectious diseases including novel influenza viruses and biological agents that pose a threat to global public health. Through this international collaboration ASPR will capitalize on GMI's influential position as an important regional partner on disease surveillance efforts and public health emergency preparedness. This new cooperative agreement will help to further strengthen laboratory diagnostic capacity in Panama and other countries in the region. GMI's strong collaborative relationships with neighboring governments, as well as its training capabilities, and laboratory infrastructure will be critical for the viability of this partnership. In addition, this collaboration will support overall HHS efforts to continue building capacity abroad with the ultimate intent of detecting, stopping, slowing or otherwise limiting the threat or actual spread of bio-terrorism agents or a pandemic to the United States, thereby enhancing the health security of the American population.

Additional Information: The agency program contact is Dr. Maria Julia Marinissen, who can be contacted at 202-205-4214 or Maria.Marinissen@hhs.gov.

Statutory Authority: Sections 301, 307, 1701 and 2811 of the Public Health Service Act, 42 U.S.C. 241, 242l, 300u, 300hh-10.

Dated: August 15, 2011.
Nicole Lurie,
Assistant Secretary for Preparedness and Response.

[FR Doc. 2011-21294 Filed 8-19-11; 8:45 am]

BILLING CODE 4150-37-P